DEPARTMENT OF TRANSPORTATION

Federal Aviation Administration

14 CFR Part 71

[Airspace Docket No. 00-ACE-11]

Amendment of Class E Airspace; Kearney, NE

AGENCY: Federal Aviation Administration [FAA] DOT.

ACTION: Final rule.

SUMMARY: This action amends Class E airspace area at Kearney, NE. The FAA received a request to amend the hours of the Class E surface area from part time to full time status. An increase in Part 121 and other Instrument Flight Rule operations have made this action necessary. This action amends the Class E surface area at Kearney, NE from part time to full time status.

EFFECTIVE DATE: 0901 UTC October 5, 2000.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On May 22, 2000, the FAA proposed to amend Part 71 of Title 14 of the Federal Regulations (14 CFR part 71) by amending Class E surface area at Kearney, NE (65 FR 32046). The action will amend the Class E surface area from part time to full time status.

Interested parties were invited to participate in this rulemaking proceeding by submitting written comments on the proposal to the FAA. No comments objecting to the proposal were received. Class E airspace areas designated as a surface area for an airport are published in paragraph 6002 of FAA Order 7400.9G, dated September 1, 1999, and effective September 16, 1999, which is incorporated by reference in 14 CFR 71.1. The Class E airspace designation listed in this document will be published subsequently in the Order.

The Rule

This amendment to part 71 of Title 14 of the Federal Regulations (14 CFR part 71) amends the Class E airspace area at Kearney, NE, from part time to full time status. The area will be depicted on appropriate aeronautical charts.

The FAA has determined that this regulation only involves an established body of technical regulations for which frequent and routine amendments are necessary to keep them operationally current. Therefore, this regulation (1) is not a “significant regulatory action” under Executive Order 12866; (2) is not a “significant rule” under DOT Regulatory Policies and Procedures (44 FR 11034; February 26, 1979); and (3) does not warrant preparation of a Regulatory Evaluation as the anticipated impact is so minimal. Since this is a routing matter that will only affect air traffic procedures and air navigation, it is certified that this rule will not have a significant economic impact on a substantial number of small entities under the criteria of the Regulatory Flexibility Act.

List of Subjects in 14 CFR Part 71

Aviation, Incorporation by reference, Navigation (air).

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 1, 1999, and effective September 16, 1999, is amended as follows:

Paragraph 6002 Class E airspace areas designated as a surface area for an airport.

* * * * *

ACE NE E2 Kearney, NE [Revised]

Kearney Municipal Airport, NE

(Lat. 40°43′37″N., long. 99°00′24″W.)

Kearney, VOR

(Lat. 40°43′32″N., long. 99°00′18″W.)

Within a 4.2-mile radius of Kearney Municipal Airport and within 3.1 miles each side of the 194° radial of the Kearney VOR extending from the 4.2-mile radius to 9.2 miles south of the VOR and within 3.1 miles each side of the 329° radial of the Kearney VOR extending from the 4.2-mile radius to 10 miles northwest of the VOR and within 3.1 miles each side of the 360° radial of the Kearney VOR extending from the 4.2-mile radius to 10 miles north of the airport.

* * * * *

Issued in Kansas City, MO on July 14, 2000.
Richard L. Day,
Acting Manager, Air Traffic Division, Central Region.

[FR Doc. 00-19521 Filed 8-1-00; 8:45 am]

BILLING CODE 4910-13-M